DEPARTMENT OF HEALTH AND HUMAN SERVICES

Health Resources and Services Administration

Statement of Delegation of Authority

Notice is hereby given that I have delegated to the Administrator, Health Resources and Services Administration (HRSA), authority vested in the Secretary under Title XX, Section 2008(b) of the Social Security Act (42 U.S.C. 1397g(b)), as added by Section 5507(a) of the Affordable Care Act, as it pertains to the functions assigned to HRSA. This authority may be redelegated.

HRSA will consult with the Assistant Secretary for Planning and Evaluation, as appropriate, in implementing this authority.

This delegation excludes the authority to issue regulations, to establish advisory councils and committees and appoint their members, and to submit reports to Congress, and shall be exercised in accordance with the Department's applicable policies, procedures, and guidelines. In addition, I hereby affirm and ratify any actions taken by the Administrator, HRSA, or other HRSA officials, which involved the exercise of this authority prior to the effective date of this delegation.

This delegation is effective upon date of signature.

Dated: March 4, 2011.
Kathleen Sebelius,
Secretary.

[FR Doc. 2011-5808 Filed 3-11-11; 8:45 am]

BILLING CODE 4165-15-P